DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of January, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of important of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,360; Georgia Pacific Corp, Structural Panel Div.—OSB, Baileyville, ME

TA-W-38,258; U.S. Label Artistic, Clinton, NC

TA-W-38,340; New Monarch Machine tool, Inc., Cortland, NY

TA-W-38,293 Dresser-Rand, Painted Post, NY

In the following cases, the investigation revealed that the criteria for eligibility have not been met for the reasons specified.

TA-W-38,458; Country Roads, Greenville, MI

TA-W-38,369; Dun & Bradstreet, Global Technology Organization (GTO), Parsippany, NJ

TA-W-38,309; Virogenetics Corp., Troy, NY

TA-W-38,328; Initial Security, Inc., Portland, OR

TA-W-38,405; Cabot Performance Materials, Boyertown, PA

TA-W-38,177; Potlatch Corp., Lewiston, ID

TA-W-38,291; Hager Companies, Montgomery Central Distribution Center, Montgomery, AL

The workers' firm does not produce an article as required for certification under Section 222 of the Trade Act of 1974.

TA-W-38,376; Galey & Lord Industries, Inc., Shannon, GA

TA-W-38,365; Agrilink Foods, Inc., Alamo, TX

TA-W-38,349; 21st Century Companies, Inc., Dearborn Brass, Tyler, TX

TA-W-38,202; Creighton, Inc., Reidsville, NC

TA-W-38,243; Color-Tex International, North Carolina Finishing Div., Salisbury, NC

TA-W-38,135; Archer Daniels Midland Co., Oilseed Processing & Terminal Receiving, Downtown Elevators, Helena, AR

Increased imports did not contribute importantly to worker separations at the firm.

TA-W-38,507; Dresser-Wayne Division (Halliburton), Salisbury, MD

The investigation revealed that criteria (2) has not been met. Sales or production did not decline during the relevant period as required for certification.

Affirmative Determinations for Worker Adjustment Assistance

The following certifications have been issued; the date following the company name and location of each determination references the impact date for all workers of such determination.

TA-W-38,345; General Time Corp., Athens, GA: November 13, 1999.

TA-W-38,384; Thompson Steel Co., Inc., Baltimore, MD; November 22, 1999.

TA-W-38,356; Johnson Controls, Inc., Controls Group—Poteau Facility, Poteau, Facility, Poteau, OK: November 9, 1999.

TA-W-38,327; Irving Forest Products, Pinkham Sawmill, Ashland, ME: November 7, 1999.

TA-W-38,308; Advanced Cast Products, Meadville, PA: October 25, 1999.

TA-W-38,175; Cai

TAc Manufacturing, Inc., Billingham, WA: September 18, 1999.

TA-W-38,404; Lending Textile Co., Montgomery, PA: November 17, 1999.

TA-W-38,398; G. F. Wright Steel & Wire Co., Worcester, MA: August 4, 2000.

TA-W-38,265; HI-Line Storage Systems, Perkasie, PA: October 13, 1999.

TA-W-38,331; Babyfair, Inc., Babyfair, Inc., Brooklyn, NY: November 6, 1999.

TA-W-38,208; Parana Supplies Corp. Including Leased Workers of RMPersonnel, El Paso, TX: October 9, 1999.

TA-W-38,284; NRB Industries, Inc., Radford Plant, Radford, VA: September 4, 2000.

TA-W-38,448; Fruit of The Loom Arkansas, Osceola, AR: November 27, 1999.

TA-W-38,322 & A; Goldendale Aluminum, Inc., Goldendale, WA & Inc., Northwest Aluminum, The Dalles, OR: November 3, 1999.

TA-W-38,269; Hamilton Beach/Proctor Silex, Inc., Mount Airy, NC: December 12, 2000.

TA-W-38,375; CHF Industries, Inc., Kaufman, TX: November 16, 1999.

TA-W-38,160; Baxter Healthcare Corp., Skokie, IL: November 16, 1999.

TA-W-38,381; Karmazin Products Corp., Wyandotte, MI: November 17, 1999.

TA-W-38,304; USR Optonix, Inc., Toner Division, Hackettstown, NJ: October 24, 1999.

TA-W-38,194; Covington Industries, Opp, AL: April 25, 2000.

TA-W-38,160; Jomac-Wells Lamont Industry, Brunswick, MO: September 20, 1999.

TA-W-38,414; Villazon and Co., Inc., TAmpa, FL: December 4, 1999

TA-W-38,316; Bryant Grinder Corp., Springfield, VT: November 1, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of January 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of article like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during he relevant period.

NAFTA-TAA-04301; Holtrachem Manufacturing LLC, Riegelwood, NC

NAFTA-TAA-04277; NRB Industries, Inc., Radford Plant, Radford, VA

NAFTA-TAA-04268; Utica Cutlery Co., Utica, NY

NAFTA-TAA-04313; Agrilink Foods, Alamo, TX

NAFTA-TAA-04143; Kezar Falls Woolen Co., A Division of Robinson Manufacturing Co., Parsonsfield, ME

NAFTA-TAA-04234; Parana Supplies Corp., El Paso, TX

NAFTA-TAA-04319; Georgia Pacific Corp., Structural Pannel Division—OSB, Baileyville, ME

NAFTA-TAA-04156; Archer Daniels Midland Co., Oilseed Processing & Terminal Receiving, Helena, AR

NAFTA-TAA-04209; Creighton, Inc., Heidsville, NC

NAFTA-TAA-04219; Color-Tex International, North Carolina Finishing Div., Salisbury, NC

The investigation revealed that the criteria for eligibility have not been met for the reasons specified.

NAFTA-TAA-04176; Potlatch Lumber Corp., Lewiston, ID

NAFTA-TAA-04373; Country Roads, Inc., Greenville, MI

NAFTA-TAA-04360; Phelps Trucking, Inc., Hood River, OR

The investigation revealed that workers of the subject firm did not produce an article within the meaning of Section 250(a) of the Trade Act, as amended:

NAFTA-TAA-04303; 21st Century Companies, Inc., Dearborn Brass, Tyler, TX

The investigation revealed that criteria (2) has not been met. Sales or production, or both, of such firm or subdivision did not decrease during the relevant period.

Affirmative Determinations NAFTA-TAA

NAFTA-TAA-04173; Caitac Manufacturing, Inc., Bellingham, WA: September 25, 1999.

NAFTA-TAA-04369; Sola Poly Miami, A Division of Sola Optical USA, Miami, FL: June 2, 1999.

NAFTA-TAA-04240; Ingersoll-Rand Co., Schlage Lock, Residential Security and Safety Div., San Jose, CA: October 11, 1999.

NAFTA-TAA-04416; Fruit of The Loom Arkansas, Osceola, AR: December 29, 1999.

NAFTA-TAA-04270; Elmer's Products, Inc., Bainbridge, NY: October 12, 1999.

NAFTA-TAA-04284; USR Optonix, Inc., Toner Div., Hackettstown, NJ: October 24, 1999.

NAFTA-TAA-04399; Tyco Electronics, Irvine, CA: December 11, 1999.

NAFTA-TAA-04314; Lexmark International, Lexington, KY: November 17, 1999.

NAFTA-TAA-4292; Irving Forest Products, Inc., Pinkham Sawmill, Ashland, ME: November 7, 1999.

NAFTA-TAA-04351; G.F. Wright Steel and Wire Co., Worcester, MA: August 4, 2000.

NAFTA-TAA-04320; Lending Textile Co., Montgomery, PA: November 17, 1999.

I hereby certify that the aforementioned determinations were issued during the month of January, 2001. Copies of these determinations are available for inspection in Room C-5311, U.S. Department of Labor, 200 Constitution Avenue, NW., Washington, DC 20210 during normal business hours or will be mailed to persons who write to the above address.

Dated: January 22, 2001.
Edward A. Tomchick,
Director, Division of Trade Adjustment Assistance.

[FR Doc. 01-3287 Filed 2-7-01; 8:45 am]

BILLING CODE 4510--30-M